DEPARTMENT OF COMMERCE

International Trade Administration

[A-351-828]

Notice of Extension of Time Limit for Preliminary Results of Antidumping Duty Administrative Review: Certain Hot-Rolled Carbon Steel Flat Products From Brazil

AGENCY: Import Administration, International Trade Administration, Department of Commerce.

SUMMARY: The Department of Commerce (“the Department”) is conducting an administrative review of the antidumping duty order on certain hot-rolled carbon steel flat products from Brazil in response to a request by respondent Companhia Sidergica Nacional (“CSN”). The review covers shipments to the United States during the period March 1, 2003, to February 29, 2004. For the reasons discussed below, we are fully extending the preliminary results of this administrative review by 120 days, to not later than March 31, 2005. This extension is made pursuant to section 751(a)(3)(A) of the Tariff Act of 1930, as amended.

DATES: October 7, 2004.

FOR FURTHER INFORMATION CONTACT: Helen Kramer or Kristin Najdi at (202) 482-0405 or (202) 482-8221, respectively; Antidumping and Countervailing Duty Operations, Office 7, Import Administration, International Trade Administration, U.S. Department of Commerce, 14th Street and Constitution Avenue, NW., Washington, DC 20230.

SUPPLEMENTARY INFORMATION:

Background

On March 31, 2004, in response to the Department's notice of opportunity to request a review published in the Federal Register, CSN requested that the Department conduct an administrative review of the antidumping duty order on certain hot-rolled carbon steel flat products from Brazil. See Antidumping Duty Order: Certain Hot-Rolled Flat-Rolled Carbon Quality Steel Products from Brazil, 67 FR 11093 (March 12, 2002).

On April 28, 2004, the Department published the notice initiating administrative review of CSN. See Initiation of Antidumping and Countervailing Duty Administrative Reviews, 69 FR 23170 (April 28, 2004). The preliminary results are currently due not later than December 1, 2004.

Extension of Time Limits for Preliminary Results

Pursuant to section 751(a)(3)(A) of the Tariff Act of 1930, as amended (the Act), and 19 CFR 351.213(h)(2), the Department may extend the deadline for completion of the preliminary results of a review if it determines that it is not practicable to complete the preliminary results within 245 days after the last day of the anniversary month of the date of publication of the order for which the administrative review was requested. The Department has determined it is not practicable to complete this review within the originally anticipated time limit, in accordance with section 751(a)(3)(A) of the Act and 19 CFR 351.213(h)(2), because of complex cost and further manufacturing issues. Therefore, the Department is extending the time limits for the preliminary results by 120 days, to not later than March 31, 2005. The deadline for the final results of this review will continue to be 120 days after publication of the preliminary results.

Dated: October 1, 2004.
Jeffrey A. May,
Deputy Assistant Secretary for Import Administration.

[FR Doc. E4-2532 Filed 10-6-04; 8:45 am]

BILLING CODE 3510-DS-P